DEPARTMENT OF THE INTERIOR

Bureau of Reclamation Fish and Wildlife Service

Rescission of Notice of Availability of Final Environmental Impact Statement/Environmental Impact Report

AGENCIES: Fish and Wildlife Service, Bureau of Reclamation, Interior.

ACTION: Rescission of notice of availability.

SUMMARY: This notice announces the rescission of the notice of availability of the joint Final Environmental Impact Statement/Environmental Impact Report (FEIS/EIR) for the Trinity River Mainstem Fishery Restoration published in the Federal Register on October 20, 2000 (65 FR 63087). The Notice of Availability of the Final Environmental Impact Statement for the proposed Trinity River Mainstem Restoration in the Federal Register on October 20, 2000, was issued in error. The FEIS/EIR will be issued shortly. A revised notice of availability will be issued in the Federal Register at that time.

FOR FURTHER INFORMATION CONTACT: Dr. MaryEllen Mueller, U.S. Fish and Wildlife Service, 2800 Cottage Way, Suite W-2606, Sacramento, CA 95825 (916) 414-6464.

Authority: NEPA, the National Environmental Quality Improvement Act of 1970, as amended (42 U.S.C. 4371 et seq.); E.O. 11514, March 5, 1970, as amended by E.O. 11991, May 24, 1977; and CEQ Regulations 40 CFR 1503.1).

Willie R. Taylor,
Director, Office of Environmental Policy and Compliance.

[FR Doc. 00-27502 Filed 10-24-00; 8:45 am]

BILLING CODE 4310-55-P